FEDERAL TRADE COMMISSION

Sunshine Act Meeting Notice

AGENCY: Federal Trade Commission.

ACTION: Announcement of meeting.

SUMMARY: Please take notice that the Federal Trade Commission (“Commission”) has scheduled a meeting, which will be closed to the public, for the consideration of a law enforcement matter.

DATES: This closed Commission meeting will occur on Tuesday, December 9, 2025, starting at 10:00 a.m. eastern time.

ADDRESSES: Federal Trade Commission Building, 600 Pennsylvania Avenue NW, Washington, DC 20580.

FOR FURTHER INFORMATION CONTACT: April J. Tabor, Secretary of the Commission (phone: 202-326-3310), Federal Trade Commission, 600 Pennsylvania Avenue NW, Washington, DC 20580.

SUPPLEMENTARY INFORMATION: The Commission will be meeting in closed session to consider a non-adjudicative law enforcement matter. It has not scheduled any adjudicative items for discussion at this meeting.

Record of Commission's Vote

On December 2, 2025, Commissioners Ferguson and Meador were recorded as voting in the affirmative to close this meeting for a non-adjudicative matter. By these votes, the Commission approved withholding from this meeting notice such information as is exempt from disclosure under 5 U.S.C. 552b(c).

Commission's Explanation of Closing

The Commission has determined that the meeting will be closed to the public pursuant to 5 U.S.C. 552b(c)(3), (4), (7)(A), and (10), and 552b(d)(4) and that the public interest does not require the meeting to be open to the public.

General Counsel Certification

The General Counsel has certified that the meeting may properly be closed for the above agenda matter, citing the following relevant exemptive provisions: 5 U.S.C. 552b(c)(3), (4), (7)(A), and (10).

Expected Attendees

Commission employees and consultants and the stenographer or court reporter preparing any necessary verbatim transcript may attend the closed meeting to the extent permitted under Rule 4.15(c)(1) of the Commission's Rules of Practice.

By direction of the Commission.
Joel Christie,
Acting Secretary.

[FR Doc. 2025-22129 Filed 12-3-25; 4:15 pm]

BILLING CODE 6750-01-P